DEPARTMENT OF EDUCATION

[CFDA No. 84.120A]

Minority Science and Engineering Improvement Program

AGENCY: Office of Postsecondary Education, Department of Education.

ACTION: Notice of intent to fund down the fiscal year (FY) 2009 grant slate for the Minority Science and Engineering Improvement Program.

SUMMARY: The Secretary intends to use the grant slate developed in FY 2009 for the Minority Science and Engineering Improvement Program (MSEIP), authorized by Title III, Part E of the Higher Education Act of 1965, as amended (HEA), to fund down the FY 2009 grant slate to make new grant awards in FY 2010. The Secretary takes this action because a significant number of high-quality applications remain on last year's grant slate. We expect to use an estimated $4,069,676 for new awards in FY 2010.

FOR FURTHER INFORMATION CONTACT: Karen W. Johnson, U.S. Department of Education, 1990 K Street, NW., 6th Floor, Washington, DC 20006-6450. Telephone: (202) 502-7642 or via Internet: karen.johnson@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION:

Background

On April 1, 2009, we published a notice in the Federal Register (74 FR 14790) inviting applications for new awards under MSEIP.

In response to this notice, we received a significant number of applications for grants under MSEIP in FY 2009 and funded 16 new grants. Because such a large number of high-quality applications were received, many applications that were awarded high scores by peer reviewers did not receive funding in FY 2009.

In order to conserve funding that would have been required for a peer review of new applications submitted under this program, we intend to select grantees in FY 2010 from the existing slate of applicants. This slate was developed during the FY 2009 competition using the competitive preference priorities, invitational priorities, selection criteria, and requirements referenced in the April 1, 2009 notice.

Program Authority: 20 U.S.C. 1067-1067k.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on the GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: April 23, 2010.
Daniel T. Madzelan,
Director, Forecasting and Policy Analysis.

[FR Doc. 2010-9907 Filed 4-28-10; 8:45 am]

BILLING CODE 4000-01-P